DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before May 16, 2008.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response: “Comment: [insert OMB number], [insert abbreviated collection name, e.g., “Upward Bound Evaluation”]”. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or recordkeeping burden. OMB invites public comment.

Dated: April 10, 2008.
Angela C. Arrington,
IC Clearance Official, Regulatory Information Management Services, Office of Management.

Office of the Secretary

Type of Review: Revision.

Title: U.S. Department of Education Supplemental Information for the SF-424 Form.

Frequency: New Awards.

Affected Public: State, Local, or Tribal Gov't, SEAs or LEAs; Individuals or households; Businesses or other for-profit; Not-for-profit institutions.

Reporting and Recordkeeping Hour Burden:

Responses: 26,000.

Burden Hours: 7,860.

Abstract: In the previous clearance of the 1890-0017 collection (now 1894-0007) in 2004, the U.S. Department of Education (ED) cleared the Application for Federal Education Assistance or ED 424 under this collection number. Since that time, ED has discontinued use of the ED 424 Form and has begun using the SF-424, Application for Federal Assistance, together with the U.S. Department of Education Supplemental Information for the SF-424 form. ED made a policy decision to switch to the SF-424 in keeping with Federal-wide forms standardization and streamlining efforts, especially with widespread agency use of Grants.gov. There were several data elements/questions on the ED 424 that were required for ED applicants that were not included on the SF-424. Therefore, ED put these questions that were already cleared as part of the 1890-0017 collection (now 1894-0007) on a form entitled the U.S. Department of Education Supplemental Information for the SF-424.

The forms in the SF-424 forms family (e.g., the SF-424 Core Form, SF-424M, etc.) have already been cleared for use by Federal agencies to collect certain identifying information and other data from grant applicants. In this renewal for the collection package for 1894-0007 (formerly 1890-0017), ED is requesting clearance only for the U.S. Department of Education Supplemental Information for the SF-424 form (ED Supplemental Information form). The questions on this form deal with the following areas: Project Director identifying and contact information; Novice Applicants; and Human Subjects Research. The ED supplemental information form could be used with any of the SF-424 forms in the SF-424 forms family, as applicable.

Requests for copies of the information collection submission for OMB review may be accessed from http://edicsweb.ed.gov, by selecting the “Browse Pending Collections” link and by clicking on link number 3589. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-8121 Filed 4-15-08; 8:45 am]

BILLING CODE 4000-01-P